DEPARTMENT OF ENERGY

Bonneville Power Administration

South Fork Flathead Watershed Westslope Cutthroat Trout Conservation Program

AGENCY: Bonneville Power Administration (BPA), Department of Energy (DOE).

ACTION: Notice of availability of record of decision (ROD).

SUMMARY: This notice announces the availability of the ROD for the South Fork Flathead Watershed Westslope Cutthroat Trout Conservation Program, based on the South Fork Flathead Watershed Westslope Cutthroat Trout Conservation Program Final Environmental Impact Statement (DOE/EIS-0353, July 2005). BPA is taking this action to preserve the genetic purity of the westslope cutthroat trout populations in the South Fork of the Flathead River drainage in Flathead County, Montana. BPA will fund Montana Fish, Wildlife and Parks (MFWP) pursuant to its authority under the Pacific Northwest Electric Power Planning and Conservation Act to protect, mitigate, and enhance fish affected by the Federal Columbia River Power System in the Columbia River Basin. BPA is the lead agency; the U.S. Forest Service, Flathead National Forest (USFS) is a federal cooperating agency since it has jurisdiction and responsibility for the use and management of National Forest Lands, including the Bob Marshall Wilderness and the Jewell Basin Hiking area on the Flathead National Forest. The USFS will issue a separate ROD for its actions. MFWP is a cooperating agency and has jurisdiction and responsibility to manage all fish and wildlife resources on state, federal, and private lands in Montana. MFWP will issue a separate ROD on this project.

ADDRESSES: Copies of the ROD and EIS may be obtained by calling BPA's toll-free document request line, 1-800-622-4520, The ROD and EIS Summary are also available on our Web site, http://www.efw.bpa.gov.

FOR FURTHER INFORMATION CONTACT: Colleen Spiering, Environmental Project Manager, Bonneville Power Administration—KEC-4, P.O. Box 3621, Portland, Oregon 97208-3621; toll-free telephone number 1-800-282-3713; fax number 503-230-5699; or e-mail caspiering@bpa.gov.

SUPPLEMENTARY INFORMATION: MFWP will apply pesticides to remove hybrid trout from lakes and designated portions of their outflow streams and then restock the lakes and streams with genetically pure westslope cutthroat trout. MFWP will use a combination of motorized/mechanized (i.e., aircraft, motor boats) and non-motorized/nonmechanized (i.e., livestock, hiking) means to access all project sites. Before restocking MFWP will instill sentinel fish cages in each lake to determine if the water conditions are appropriate. MFWP will monitor the restocked lakes for several years to determine population viability and associated characteristics, and determine program success such as presence and degree of natural reproduction, genetic purity, angling quality and growth rates. In issuing this ROB, BPA is also committing to all mitigation in the Mitigation Action Plan for the project.

Issued in Portland, Oregon, on May 1, 2006.
Stephen J. Wright,
Administration and Chief Executive Officer.

[FR Doc. 06-4441 Filed 5-11-06; 8:45 am]

BILLING CODE 6450-01-M